DEPARTMENT OF COMMERCE

International Trade Administration

[A-557-825]

Certain Paper Shopping Bags From Malaysia: Postponement of Final Determination of Sales at Less Than Fair Value Investigation

AGENCY: Enforcement and Compliance, International Trade Administration, Department of Commerce.

SUMMARY: The U.S. Department of Commerce (Commerce) is postponing the deadline for issuing the final determination in the less-than-fair-value (LTFV) investigation of certain paper shopping bags (shopping bags) from Malaysia until May 17, 2024, and is extending the provisional measures from a four-month period to a period of not more than six months.

DATES: Applicable January 29, 2024.

FOR FURTHER INFORMATION CONTACT: Daniel Alexander, AD/CVD Operations, Office VII, Enforcement and Compliance, International Trade Administration, U.S. Department of Commerce, 1401 Constitution Avenue NW, Washington, DC 20230; telephone: (202) 482-4313.

SUPPLEMENTARY INFORMATION:

Background

On June 20, 2023, Commerce initiated an LTFV investigation of imports of paper bags from Malaysia.¹ The period of investigation is April 1, 2022, through March 31, 2023. On January 3, 2024, Commerce published its preliminary determination in this LTFV investigation of paper bags from Malaysia.²

¹ See Certain Paper Shopping Bags from Cambodia, the People's Republic of China, Colombia, India, Malaysia, Portugal, Taiwan, the Republic of Turkey, and the Socialist Republic of Vietnam: Initiation of Less-Than-Fair-Value Investigations, 88 FR 41589 (June 27, 2023).

² See Certain Paper Shopping Bags from Malaysia: Preliminary Affirmative Determination of Sales at Less-Than- Fair-Value, 89 FR 333 (January 3, 2024) (Preliminary Determination).

Postponement of Final Determination and Extension of Provisional Measures

Section 735(a)(2) of the Tariff Act of 1930, as amended (the Act), and 19 CFR 351.210(b)(2) provide that a final determination may be postponed until not later than 135 days after the date of the publication of the preliminary determination if, in the event of an affirmative preliminary determination, a request for such postponement is made by the exporters or producers who account for a significant proportion of exports of the subject merchandise, or in the event of a negative preliminary determination, a request for such postponement is made by the petitioners. Further, 19 CFR 351.210(e)(2) requires that such postponement requests by exporters be accompanied by a request for extension of provisional measures from a four-month period to a period not more than six months, in accordance with section 733(d) of the Act.

On January 5, 2024, Nanwang Pack (M) Sdn. Bhd. (Nanwang) and Hexachase Packaging Sdn Bhd, Malaysia (Hexachase), mandatory respondents in this investigation, requested that Commerce postpone the deadline for final determination until no later than 135 days from the publication of the Preliminary Determination, and extend the application of the provisional measures from a four-month period to a period of not more than six months.³ In accordance with section 735(a)(2)(A) of the Act and 19 CFR 351.210(b)(2)(ii), because: (1) the preliminary determination was affirmative; (2) the request for postponement was made by the exporters and producers who accounts for a significant proportion of exports of the subject merchandise; and (3) no compelling reasons for denial exist, Commerce is postponing the final determination until no later than 135 days after the date of publication of the Preliminary Determination, and extending the provisional measures from a four-month period to a period of not more than six months. Accordingly, Commerce will issue its final determination no later than May 17, 2024.

³ See Hexachase's Letter, “Request to Postpone the Final Determination in the matter of case no A-557-825,” dated January 5, 2024; see also Nanwang's Letter, “Request to Extend Final Determination,” dated January 5, 2023.

This notice is issued and published pursuant to section 735(a)(2) of the Act and 19 CFR 351.210(g).

Dated: January 19, 2024.
Abdelali Elouaradia,
Deputy Assistant Secretary for Enforcement and Compliance.

[FR Doc. 2024-01702 Filed 1-26-24; 8:45 am]

BILLING CODE 3510-DS-P